DEPARTMENT OF TRANSPORTATION

Federal Aviation Administration

Research, Engineering and Development Advisory Committee

Pursuant to section 10(A)(2) of the Federal Advisory Committee Act (Pub. L. 92-463; 5 U.S.C. App. 2), notice is hereby given of a meeting of the FAA Research, Engineering and Development (R,E&D) Advisory Committee.

AGENCY: Federal Aviation Administration.

ACTION: Notice of meeting.

Name: Research, Engineering & Development Advisory Committee.

Time and Date: September 14, 2004—9 a.m. to 4 p.m. September 15, 2004—9 a.m. to 12 noon.

Place: Federal Aviation Administration, 800 Independence Avenue, SW.—Bessie Coleman Room, Washington, DC 20591.

Purpose: On September 14-15 the meeting agenda will include receiving from the Committee guidance for FAA's research and development investments in the areas of air traffic services, airports, aircraft safety, human factors and environment and energy. Attendance is open to the interested public but seating is limited. Persons wishing to attend the meeting or obtain information should contact Gloria Dunderman at the Federal Aviation Administration, 800 Independence Avenue, SW., Washington, DC 20591 (202) 267-8937 or gloria.dunderman@faa.gov.

Members of the public may present a written statement to the Committee at any time.

Issued in Washington, DC on August 24, 2004.
Joan Bauerlein,
Director of Operations Planning Research & Development.

[FR Doc. 04-19738 Filed 8-27-04; 8:45 am]

BILLING CODE 4910-13-M